DEPARTMENT OF HOMELAND SECURITY

U.S. Customs and Border Protection

19 CFR Parts 4, 10, 12, 18, 101, 103, 118, 122, 141, 146, 159, 162, and 192

CBP Dec. 10-29; Technical Corrections to Customs and Border Protection Regulations

AGENCY: Customs and Border Protection, Department of Homeland Security.

ACTION: Final rule.

SUMMARY: Customs and Border Protection (CBP) periodically reviews its regulations to ensure that they are current, correct, and consistent. Through this review process, CBP discovered a number of discrepancies. This document amends various sections of title 19 of the Code of Federal Regulations to correct those discrepancies.

DATES: The final rule is effective August 26, 2010.

FOR FURTHER INFORMATION CONTACT: Robert Shervette, Regulations and Rulings, Office of International Trade, (202) 325-0274.

SUPPLEMENTARY INFORMATION:

Background

It is the policy of Customs and Border Protection (CBP) to periodically review title 19 of the Code of Federal Regulations to ensure that it is as accurate and up-to-date as possible so that the importing and general public are aware of CBP programs, requirements, and procedures regarding import-related activities. As part of this review policy, CBP has determined that certain corrections are necessary affecting parts 4, 10, 12, 18, 101, 103, 118, 122, 141, 146, 159, 162, and 192 of the CBP regulations (19 CFR parts 4, 10, 12, 18, 101, 103, 118, 122, 141, 146, 159, 162, and 192).

Discussion of Changes

Part 4

Section 4.12 of the CBP regulations (19 CFR 4.12), involving the process of notifying CBP of a manifest discrepancy, contains a typographical error in the designation of paragraph “(a)(5)(a)”. The paragraph should properly read as “(a)(5)”. Accordingly, this document amends § 4.12 by replacing the paragraph designation “(a)(5)(a)” with “(a)(5)”.

Part 10

Section 10.31(g) of the CBP regulations (19 CFR 10.31(g)) provides for free entry of particular classes of products which have previously been entered if the “original entry was made on the basis of a clerical error, mistake of fact, or other inadvertence within the meaning of section 520(c)(1) of the Tariff Act of 1930, as amended.” Section 520(c) of the Tariff Act of 1930 (19 U.S.C. 1520(c)), which was an exception to the finality of the liquidation of an entry under section 514 of the Tariff Act of 1930 (19 U.S.C. 1514), was repealed by section 2105 of the Miscellaneous Trade and Technical Corrections Act of 2004 (“Trade Act of 2004”) (Pub. L. 108-429, 118 Stat. 2598 (December 3, 2004)).

Section 2103(1)(A) of the Trade Act of 2004 also amended section 514(a) of the Tariff Act of 1930 (19 U.S.C. 1514(a)) to include clerical errors, mistakes of fact, and other inadvertence as bases of protest of CBP decisions. See Public Law 108-429, 118 Stat. 2597. Therefore, in order to reflect the inclusion of clerical error, mistake of fact, or other inadvertence as bases of protest in section 514(a) and the removal of section 520(c), § 10.31(g) is amended to replace the reference to section 520(c)(1) of the Tariff Act of 1930, as amended, with a reference to section 514(a) of the Tariff Act of 1930, as amended. In addition, § 10.31(g) is being amended by replacing outdated references to “Customs custody”, “the Customs Service”, and “Customs territory” with “CBP custody”, “CBP”, and “customs territory”, respectively. This is consistent with the transfer of the legacy U.S. Customs Service of the Department of the Treasury to the Department of Homeland Security (DHS) in 2003 and the subsequent renaming of the agency as U.S. Customs and Border Protection by DHS on March 31, 2007 (see 72 FR 20131, dated April 23, 2007). See also 75 FR 12445, dated March 16, 2010.

Section 10.36(b) of the CBP regulations (19 CFR 10.36(b)), pertaining to the temporary importation under bond of theatrical effects and other articles contains a reference to subheading 9813.00.65, Harmonized Tariff Schedule of the United States (HTSUS), 19 U.S.C. 1202. This tariff number was replaced on January 4, 1995, with subheading 9817.00.98, HTSUS, by Presidential Proclamation 6763 (December 23, 1994). Section 10.36(b) is amended to replace the outdated subheading with subheading 9817.00.98, HTSUS. Section 10.36 is also being amended to replace outdated nomenclature references to reflect the changes effected by the transfer of CBP to DHS.

Sections 10.191(b)(1) and 10.195(b)(1) of the CBP regulations (19 CFR 10.191(b)(1) and 10.195(b)(1)), involving regulations implementing the Caribbean Basin Economic Recovery Act (CBERA), are being amended to conform to amendments to the CBERA enacted in the 2005 Dominican Republic—Central America—United States Free Trade Agreement Implementation Act (CAFTA-DR Act) (Pub. L. 109-53, 119 Stat. 462). Section 402(a) and (c) of the CAFTA-DR Act amended sections 212(a)(1) and 213(a)(1), respectively, of the CBERA (19 U.S.C. 2702(a)(1) and 2703(a)(1)). As a result of these amendments, any cost or value of materials or direct costs of processing operations attributable to “former beneficiary countries” may be included for purposes of satisfying the 35 percent value-content requirement under the CBERA (see 19 U.S.C. 2702(a)(1)(B)). “Former beneficiary countries” are defined in the 2005 CAFTA-DR Act as countries that are no longer designated beneficiary countries under the CBERA because they have become parties to a free trade agreement with the United States.

This document amends § 10.191(b)(1) by adding language stating that when the word “former” is used in conjunction with “beneficiary country” it means a country that ceases to be designated as a beneficiary country because the country has become a party to a separate free trade agreement with the United States. Section 10.191(b)(1) is also being amended in this document by adding references to General Notes 7(a) and 7(b)(i)(C), HTSUS, which list the CBERA beneficiary countries and former beneficiary countries, respectively. In addition, this document amends § 10.195(b)(1) by adding a reference to “former beneficiary country.” Currently, “former beneficiary countries” consist of the 6 countries that are parties to the CAFTA-DR (other than the United States)—Costa Rica, Dominican Republic, El Salvador, Guatemala, Honduras, and Nicaragua.

Section 10.411(a)(2)(vi) of the CBP regulations (19 CFR 10.411(a)(2)(vi)), involving the certification of origin import requirements under the United States-Chile Free Trade Agreement (CFTA), contains an incorrect reference to § 10.411(e). The correct reference should be to § 10.411(f), which is the paragraph that lists the preference criteria that should be included on the certification of origin documentation. Section 10.411(e) has nothing to do with the “preference criterion” reference in § 10.411(a)(2)(vi). This document amends § 10.411(a)(2)(vi) by replacing the reference to “paragraph (e)” with “paragraph (f)”.

Section 10.442(d)(1) of the CBP regulations (19 CFR 10.442(d)(1)) sets forth the circumstances under which CBP may deny post-importation duty refund claims under the CFTA. These circumstances include a determination by the port director that the imported good did not qualify as an originating good at the time of importation “following initiation of an origin verification”. This document amends § 10.442(d)(1) by removing the potentially misleading words “initiation of” from the above-quoted phrase to more accurately reflect when determinations are made by CBP based upon the results of origin verifications.

Section 10.470(a) of the CBP regulations (19 CFR 10.470(a)), concerning verifications by CBP of CFTA preference claims, inadvertently omits any reference to post-importation duty refund claims made under § 10.442. This document amends the introductory text of § 10.470(a) to add a reference to “§ 10.442” immediately after the reference to “10.410” to clarify that the port director may initiate a verification with respect to both post-importation duty refund claims and preference claims made at the time of importation.

Section 10.809(d)(7) of the CBP regulations (19 CFR 10.809(d)(7)), involving terms that are defined for the purposes of the rules of origin under the United States-Bahrain Free Trade Agreement (BFTA), contains an incorrect reference to “paragraph (d)(5)”. This does not accurately reflect section 202(i)(3)(G) of the United States-Bahrain Free Trade Agreement Implementation Act, Public Law 109-169, 119 Stat. 3581 (19 U.S.C. 3805 note). The correct reference should be to “paragraph (d)(6)”. This document amends § 10.809(d)(7) by replacing the reference to “paragraph (d)(5)” with “paragraph (d)(6)”.

In § 10.809(n) of the CBP regulations (19 CFR 10.809(n)), which defines “simple combining or packaging operations”, the words “or packing or repacking” toward the end of the definition should read “and repacking and packaging” to be consistent with the implementing statute, section 202(i)(10) of the United States-Bahrain Free Trade Agreement Implementation Act. This document amends § 10.809(n) to replace the words “or packing or repacking” with the words “and repacking and packaging”.

Section 10.811(a)(1) of the CBP regulations (19 CFR 10.811(a)(1)) sets forth the maximum percentage of the production weight of fibers and yarns not originating in Bahrain or the United States that may be used in the production of a textile or apparel good and still qualify the good for preferential tariff treatment under the BFTA. There is an omission in this paragraph with reference to the words “* * * the total weight of all such fibers is not more * * *”. These words should read “* * * the total weight of all such fibers or yarns is not more * * *” (emphasis added). See section 202(h)(1)(A) of the United States-Bahrain Free Trade Agreement Implementation Act. This document amends § 10.811(a)(1) by adding the words “or yarns” following the words “all such fibers”.

Part 12

Section 12.8 of the CBP regulations (19 CFR 12.8), involving the inspection, bonding, and release of meat and meat-food products, contains a reference to “section 306, Tariff Act of 1930”. That provision was repealed by section 10418(a)(5) of the Farm Security and Rural Investment Act of 2002 (Pub. L. 107-171, 116 Stat. 507 (May 13, 2002)). Currently, the regulation of meat and meat-food products entering the United States is covered by the Animal Health Protection Act (7 U.S.C. 8301, et seq.). Accordingly, this document amends part 12 of the CBP regulations (19 CFR part 12) to remove the reference and reflect the correct authority citation in § 12.8. In addition, § 12.8 is being amended by replacing references to “Customs” with “CBP”.

Section 12.74 of the CBP regulations (19 CFR 12.74), which relates to the documentation required for importation of nonroad and stationary engines relative to the emission standards set by the Environmental Protection Agency (EPA), contains inaccurate citations to the regulations of the EPA. The EPA published a final rule in the Federal Register on July 11, 2006 (71 FR 39154), which established new standards of performance for stationary compression ignition internal combustion engines, and was effective on September 11, 2006. Accordingly, this document amends part 12 of the CBP regulations (19 CFR part 12) to conform § 12.74 to the current EPA regulations.

Section 12.112(b) of the CBP regulations (19 CFR 12.112(b)) pertains to the importation of chemicals that can be used as pesticides, but are not imported for use as pesticides. This section contains an inaccurate reference to “the Abbreviated List of Pesticides compiled by the Environmental Protection Agency”. This document amends § 112.12(b) to remove the incorrect reference and replace it with the correct title of the EPA Handbook which contains the listing of the pesticide products and a cite to that agency's website for the public's convenience.

Section 12.123(b) of the CBP regulations (19 CFR 12.123(b)) contains a reference to “Customs Form 7551, 7553, or 7595”. These forms were abolished and replaced by CBP Form 301 in order to modernize the CBP bond structure and simplify the transactions between CBP and the importing community. See Treasury Decision (T.D.) 84-213, 49 FR 41171. This document amends § 12.123(b) to remove the outdated references to these forms and replace them with the correct reference to CBP Form 301.

Parts 12 and 141

Sections 12.1(a), 12.3(a), and 141.113(c) of the CBP regulations (19 CFR 12.1(a), 12.3(a), 141.113(c)) set forth, in part, joint regulations issued by the Food and Drug Administration (FDA), Department of Health and Human Services, and the Department of the Treasury concerning the admissibility of imported food, drugs, devices, and cosmetics pursuant to sections 701(b) and 801 of the Federal Food, Drug, and Cosmetic Act (FFDCA) (21 U.S.C. 371(b) and 381). On June 22, 2009, the Family Smoking Prevention and Tobacco Control Act (Pub. L. 111-31, 123 Stat. 1776) was signed by the President into law and amended the FFDCA to give the FDA the authority to regulate tobacco products, including imported tobacco products. Accordingly, this document amends §§ 12.1(a), 12.3(a), and 141.113(c) of the CBP regulations to reflect the addition of “tobacco products” to the list of imported products subject to regulation under the FFDCA.

Part 18

Section 18.11(e) of the CBP regulations (19 CFR 18.11(e)), involving entries for immediate transportation without appraisement, contains a typographical error in the first sentence. Section 18.11(e) employs the word “of” in the phrase “merchandise subject to detention of supervision” (emphasis added) when the word “or” should have been used. This document amends § 18.11(e) to correct the error to clarify that the entries for immediate transportation without appraisement are subject to either detention or supervision by any Federal agency. In addition, this document amends § 18.11(e) to remove the word “shall” in the first and third sentences and replace it with “must” in order to reflect the mandatory nature of these requirements.

Part 101

Section 101.3 of the CBP regulations (19 CFR 101.3), which contains a list of Ports of Entry and Service Ports, contains an incomplete CBP Decision number for the Port of Entry of Fargo, North Dakota. This document amends § 101.3 to include the correct reference to the decision which established Fargo, North Dakota as a Port of Entry: CBP Dec. No. 03-09, which was published in the Federal Register (68 FR 42587) on July 18, 2003.

Part 103

Section 103.31 of the CBP regulations (19 CFR 103.31) contains an outdated reference to the CBP Data Center. This document amends § 103.31(e)(2) to include the correct reference to the CBP Technology Support Center, with the correct telephone number.

Part 118

Section 118.3 of the CBP regulations (19 CFR 118.3), regarding the written agreements between CBP and Centralized Examination Station (CES) operators, is being amended to comply with the McNamara-O'Hara Service Contract Act of 1965 (SCA) (41 U.S.C. 351, et seq.). The SCA applies to every contract entered into by the United States or the District of Columbia in excess of $2,500, the principal purpose of which is to furnish services to the United States through the use of service employees. (41 U.S.C. 351(a)). The SCA applies to the written agreement between CBP and the operator of a CES because this agreement obligates the operator of a CES to perform the specific services listed in § 118.4 of the CBP regulations (19 CFR 118.4), and therefore the principal purpose of the agreements is the furnishing of services desired by the United States Government. Section 118.3 of the CBP regulations (19 CFR 118.3) currently provides that the duration of agreements with CES operators “will not be less than three years nor more than six years.” The term “six years” is in conflict with § 353(d) of SCA, which mandates that contracts to which the SCA applies may not exceed five years. (41 U.S.C. 353(d)). Because the SCA requires that such agreements cannot exceed a term of five years, CBP is amending § 118.3 to reflect the proper time frame. CBP will honor existing agreements and will process future agreements with the revised term limits upon the effective date of this rule. Section 118.3 is also being amended in this document by replacing references to “Customs” with “CBP”.

Part 122

Section 122.42(b)(2) of the CBP regulations (19 CFR 122.42(b)(2)) sets forth the requirement for aircraft making entry into the United States at other than an international airport. As written, § 122.42(b)(2) makes a reference to § 122.34, which no longer exists. Section 122.34 was redesignated as § 122.14 by a final rule published as Treasury Decision (T.D.) 92-90 in the Federal Register (57 FR 43395) on September 21, 1992.

Although T.D. 92-90 also amended § 122.33(a)(2) to change a reference to § 122.34 with § 122.14 to reflect the above redesignation, T.D. 92-90 failed to amend 122.42(b)(2) as well to reflect the change. Additionally, § 122.42(b)(2) should include a reference to the section in the regulations on user fee airports (§ 122.15) because § 122.42(b)(2) references airports other than international airports; and user fee airports are not international airports. Accordingly, this document amends § 122.42(b)(2) of the CBP regulations by replacing the reference to § 122.34 with § 122.14 and by adding a reference to § 122.15.

Part 141

Section 141.4 of the CBP regulations (19 CFR 141.4) sets forth exceptions to the requirement that imported merchandise must be entered. There is an incorrect reference in § 141.4(c) to “General Note 19(e)” which should reference “General Note 3(e).” General Note (GN) 19(e) was transferred to GN 3(e) pursuant to the implementation of the 2003 Singapore Free Trade Agreement (SFTA). This document amends § 141.4(c) to reflect the correct reference to General Note 3(e).

Part 146

Section 146.35 of the CBP regulations (19 CFR 146.35) pertains to the procedures for the temporary deposit of merchandise in a foreign trade zone (FTZ). Pursuant to section 146.35, CBP allows the temporary unlading of merchandise in an FTZ where the information or documentation necessary to complete CBP Form 214 (“Application for Foreign Trade Zone Admission and/or Status Designation”) is not available at the time the merchandise arrives within the jurisdiction of the port. As currently written, § 146.35(e) requires that CBP Form 214 be submitted within five working days and allows the port director to grant an extension of this time period.

Sections 656 and 658 of the Customs Modernization Act provisions of the North American Free Trade Agreement Implementation Act (Pub. L. 103-182, 107 Stat. 2057, Dec. 8, 1993) gave the Secretary of the Treasury the authority to prescribe the time by which CBP is to be notified of unladen merchandise for which entry has not been made. On September 25, 1998, CBP published in the Federal Register (63 FR 51283), Treasury Decision (T.D.) 98-74, amending §§ 4.37, 122.50, and 123.10, to require a carrier's obligated party to notify CBP within fifteen calendar days after unlading of the presence of unladen, unentered merchandise. On February 11, 1999, CBP published in the Federal Register (64 FR 6801) a correction to T.D. 98-74 noting that it had inadvertently omitted § 146.40(c)(3) (19 CFR 146.40(c)(3)) concerning the time period that merchandise be admitted to an FTZ after arrival into the port from within five working days to fifteen calendar days, when it changed the regulations to reflect a fifteen calendar day period for unladen merchandise to be entered into general order. It has now come to CBP's attention that it also inadvertently omitted § 146.35(e) when it was changing the time frame for merchandise to be admitted into a zone. This document changes the time required to file CBP Form 214 from five working days to fifteen calendar days and eliminates the port director's discretion to grant an extension to make this provision consistent with the previous regulatory changes. Accordingly, the document amends § 146.35(e) to be consistent with the terms of §§ 4.37, 122.50, 123.10, and 146.40(c)(3) requiring the CBP Form 214 to be filed within the same time period.

Part 159

Section 159.11(b) of the CBP regulations (19 CFR 159.11(b)) sets forth the applicability of the provisions concerning the statutory time frame limit of one year for the liquidation of entries but excluded drawback entries in pending drawback claims from this time frame. However, section 1563(e) of the Miscellaneous Trade and Technical Corrections Act of 2004 (Pub. L. 108-429, 118 Stat. 2434, Dec. 3, 2004) amended 19 U.S.C. 1504 to include the applicability of the one year deadline to the liquidation of drawback entries or claims for drawback. Congress made this correction because it found that without a time limitation, CBP was not liquidating drawback claims within a reasonable period of time and therefore, this resulted in an open-ended time period that a drawback claimant's claim remained subject to a challenge by CBP. By including drawback claims within the one year statutory time frame that applies to liquidation of entries, Congress removed the contingent liability of the drawback claimant having to reimburse the U.S. Treasury of any drawback monies paid to the claimant from when the claim was actually filed and money was paid to the drawback claimant under the accelerated drawback program until the claim liquidated. See Senate Report No. 108-28, at 114 (Mar. 20, 2003).

Accordingly, this document amends § 159.11(b) by removing the language that excluded drawback entries from falling under the statutory liquidation time limit of one year.

Part 162

Section 162.23 of the CBP regulations (19 CFR 162.23) pertains to seizures effectuated under section 596(c), Tariff Act of 1930, as amended (19 U.S.C. 1595a(c)) (Act). The Act was amended by Pub. L. 109-177, Title III, § 311(d), 120 Stat. 192 (March 9, 2006), which added a new paragraph (d) that subjects merchandise exported contrary to law, proceeds thereof, and facilitating property to seizure and forfeiture. Accordingly, this document amends § 162.23 to conform the regulation to the Act. Section 162.23 is also being updated in this document by replacing references to “Customs” with “CBP”.

Part 192

Section 192.14(d) of the CBP regulations (19 CFR 192.14(d)), which pertains to the electronic information that is required in advance of departure for outward cargo, contains an outdated reference to the exemptions from reporting requirements for export cargo located in title 15 of the CFR. On June 2, 2008, the Bureau of the Census announced amendments to its regulations to implement provisions in the Foreign Relations Authorization Act, which went into effect on September 30, 2008 (see 73 FR 31548). Since the implementation of these amendments, the citation in § 192.14(d) of the CBP regulations to the exemptions from reporting requirements contained in the Bureau of the Census' regulations are incorrect. Accordingly, this document amends § 192.14(d) by removing the incorrect reference to 15 CFR 30.50 through 30.58, which now pertain to import requirements, and adding the correct renumbered citation to the Census regulations, namely, 15 CFR 30.35 through 30.40.

Inapplicability of Notice and Delayed Effective Date

Because the technical corrections set forth in this document merely conform to existing law and regulation, CBP finds that good cause exists for dispensing with notice and public procedure as unnecessary under 5 U.S.C. 553(b)(B). For this same reason, pursuant to 5 U.S.C. 553(d)(3), CBP finds that good cause exists for dispensing with the requirement for a delayed effective date.

Regulatory Flexibility Act

Because this document is not subject to the notice and public procedure requirements of 5 U.S.C. 553, it is not subject to the provisions of the Regulatory Flexibility Act (5 U.S.C. 601 et seq.).

Executive Order 12866

These amendments do not meet the criteria for a “significant regulatory action” as specified in Executive Order 12866.

Signing Authority

This document is limited to technical corrections of the CBP regulations. Accordingly, it is being signed under the authority of 19 CFR 0.1(b)(1).

List of Subjects

19 CFR Part 4

Reporting and recordkeeping requirements.

19 CFR Part 10

Bonds, Customs duties and inspection, Entry, Reporting and recordkeeping requirements.

19 CFR Part 12

Air pollution control, Bonds, Customs duties and inspection, Meats, Pesticides, Reporting and recordkeeping requirements.

19 CFR Part 18

Bonds, Customs duties and inspection, Merchandise in transit, Reporting and recordkeeping requirements, Transportation in bond.

19 CFR Part 101

Administrative practice and procedure, Customs duties and inspection, Customs ports of entry, Customs service ports, Customs management centers, Harbors, Organization and functions (Government agencies), Reporting and recordkeeping requirements, User fee facilities.

19 CFR Part 103

Administrative practice and procedure, Computer technology, Confidential business information, Customs duties and inspection, Freedom of information, Privacy, Reporting and recordkeeping requirements.

19 CFR Part 118

Administrative practice and procedure, Customs duties and inspection, Examination stations, Exports, Imports, Licensing, Reporting and recordkeeping requirements.

19 CFR Part 122

Administrative practice and procedure, Customs duties and inspection, Penalties, Reporting and recordkeeping requirements.

19 CFR Part 141

Customs duties and inspection, Reporting and recordkeeping requirements.

19 CFR Part 146

Customs duties and inspections, Entry, Foreign trade zones, Imports, Reporting and recordkeeping requirements.

19 CFR Part 159

Customs duties and inspections, Liquidation of entries for merchandise.

19 CFR Part 162

Customs duties and inspection, Exports, Law enforcement, Prohibited merchandise, Reporting and recordkeeping requirements, Restricted merchandise, Seizures and forfeitures.

19 CFR Part 192

Customs duties and inspection, Exports, Reporting and recordkeeping requirements.

Amendments to CBP Regulations

For the reasons set forth above, parts 4, 10, 12, 18, 101, 103, 118, 122, 141, 146, 159, 162, and 192 of the CBP regulations (19 CFR parts 4, 10, 12, 18, 101, 103, 118, 122, 141, 146, 159, 162, and 192) are amended as set forth below.

PART 4—VESSELS IN FOREIGN AND DOMESTIC TRADE

1. The general authority citation for part 4 and the specific authority citation for § 4.12 continue to read as follows:

Authority: 5. U.S.C. 301; 19 U.S.C. 66, 1431, 1433, 1434, 1624, 2071 note; 46 U.S.C. 501, 60105.

* * * * *

Section 4.12 also issued under 19 U.S.C. 1584;

* * * * *

§ 4.12 [Amended]

2. Section 4.12 is amended by redesignating paragraph (a)(5)(a) as paragraph (a)(5).

PART 10—ARTICLES CONDITIONALLY FREE, SUBJECT TO A REDUCED RATE, ETC.

3. The general authority citation for part 10 is revised to read as follows:

Authority: 19 U.S.C. 66, 1202 (General Note 3(i), Harmonized Tariff Schedule of the United States (HTSUS)), 1321, 1481, 1484, 1498, 1508, 1623, 1624, 3314.

* * * * *

§ 10.31 [Amended]

4. § 10.31(g):

a. The words “Customs custody” are removed each place that they appear and, in their place, is added the term “CBP custody”;

b. The term “520(c)(1)” is removed and, in its place, is added the term “514(a)”;

c. The words “the Customs Service” are removed and, in their place, is added the term “CBP”; and

d. The words “Customs territory” is removed and, in their place, are added the words “customs territory”.

§ 10.36 [Amended]

5. In § 10.36:

a. Paragraphs (a) and (c) are amended by removing the words “Customs invoice” each place that they appear and adding in their place, the term “CBP invoice”;

b. Paragraph (b) is amended by removing the number “9813.00.65” and adding, in its place, the number “9817.00.98”;

c. Paragraph (b) is further amended by removing the words, “U.S. Customs Service” and adding, in their place, the words, “U.S. Customs and Border Protection”;

d. Paragraphs (b) and (c) are amended by removing the words “Customs territory” each place that they appear, and adding, in their place, the words “customs territory”;

e. Paragraphs (b) and (c) are further amended by removing the words “Customs officers” and adding, in their place, the words “CBP officers”, and

f. Paragraphs (b) and (c) are further amended by removing the words “through Customs” and adding, in their place, the words “through CBP”.

6. In § 10.191:

a. Paragraph (b)(1) is amended by adding three new sentences at the end of the paragraph;

b. Paragraph (b)(2)(iv) is amended by removing the words “Harmonized Tariff Schedule of the United States (HTSUS)” and adding in their place the term “HTSUS”.

The revision reads as follows:

§ 10.191 General.

* * * * *

(b) * * *

(1) * * * See General Note 7(a), Harmonized Tariff Schedule of the United States (HTSUS). For purposes of this paragraph, when the word “former” is used in conjunction with the term “beneficiary country”, it means a country that ceases to be designated as a beneficiary country under the CBERA because the country has become a party to a free trade agreement with the United States. See General Note 7(b)(i)(C), HTSUS.

* * * * *

§ 10.195 [Amended]

7. Section 10.195(b) is amended:

a. By removing the words “and U.S. Virgin Islands” in the introductory paragraph heading and adding in their place the words “, U.S. Virgin Islands, and former beneficiary countries”; and

b. In paragraph (b)(1) by removing from the end of the first sentence the words “and the U.S. Virgin Islands” and adding in their place the words “, U.S. Virgin Islands, and any former beneficiary country” and in the middle of the second sentence by adding the words “or any former beneficiary country” immediately after the word “Islands”.

§ 10.411 [Amended]

8. Section 10.411(a)(2)(vi) is amended by removing the reference to “paragraph (e)” and adding in its place a reference to “paragraph (f)”.

§ 10.442 [Amended]

9. Section 10.442(d)(1) is amended by removing the words “initiation of”.

§ 10.470 [Amended]

10. The introductory text of § 10.470(a) is amended by adding a reference to “or § 10.442” immediately following the reference to “§ 10.410”.

§ 10.809 [Amended]

11-13. Section 10.809 is amended:

a. In paragraph (d)(7) by removing the reference to “paragraph (d)(5)” and adding in its place a reference to “paragraph (d)(6)”; and

b. In paragraph (n) by removing the words “or packing or repacking” and adding in their place the words “and repacking and packaging”.

§ 10.811 [Amended]

14. Section 10.811(a)(1) is amended by adding the words “or yarns” immediately after the words “all such fibers”.

PART 12—SPECIAL CLASSES OF MERCHANDISE

15. The general authority citation for part 12 is revised to read as follows:

Authority: 5 U.S.C. 301; 19 U.S.C. 66, 1202 (General Note 3(i), Harmonized Tariff Schedule of the United States (HTSUS)), 1624.

* * * * *

§ 12.1 [Amended]

16. Section 12.1(a) is amended by removing the words “and cosmetics” and adding in their place the words “cosmetics, and tobacco products”.

§ 12.3 [Amended]

17. Section 12.3(a) is amended by adding the words “tobacco product,” immediately after the word “cosmetic,”.

18. In § 12.8(a) is amended by:

a. Revising the first sentence;

b. Paragraph (a) is further amended in the third sentence by removing from the third sentence the words “Such meat, meat-food products, horse meat and horse meat food products shall” and adding, in their place, the words “Such meat and meat-food products will”; and

c. Removing the word “Customs” each time that it appears and adding, in its place, the term “CBP”.

The revision reads as follows:

§ 12.8 Inspection; bond; release.

(a) All imported meat and meat-food products offered for entry into the United States are subject to the regulations prescribed by the Secretary of Agriculture under the Animal Health Protection Act. (7 U.S.C. 8301, et seq.). * * *

* * * * *

19. In § 12.74:

a. The section heading is revised.

b. Paragraph (a) is revised.

c. Paragraph (b)(1) is revised.

d. Paragraph (b)(2) is amended by removing the words “a period of at least 5” and adding, in their place, the words “at least five”, and by removing the word “Customs” each time that it appears and adding in its place the term “CBP”;

e. Paragraph (c)(1) is amended by removing the phrase “paragraphs (c)(3)(i) through (c)(3)(iv)” and adding, in its place, the phrase “paragraph (c)(3)”;

f. Paragraph (c)(2) is amended, in the first sentence, by removing the phrase “paragraphs (c)(3)(i) through (c)(3)(iv)” and adding, in its place, the phrase “paragraph (c)(3)”, by removing the number “5” and adding in its place the word “five”, by removing the word “Customs” each time that it appears and adding in its place the term “CBP”; and, in the last sentence, by removing the terms “89.612-96(d), 90.613(c) & (d), 91.705(c) & (d)” and adding, in their place, the terms “89.612(d), 90.613(c) and (d), 94.805(c) and (d), and 1068.335”;

g. Paragraph (c)(3)(i) is amended by removing the terms “89.611-96(b)(1), 90.612(b)(1), 91.704(b)(1));” and adding, in their place, the terms “89.611(b)(1), 90.612(b)(1), 94.804(b)(1), 1068.325(a)).”;

h. Paragraph (c)(3)(ii) is amended by removing the terms “89.611-96(b)(2), 90.612(b)(2), 91.704(b)(2));” and adding, in their place, the terms “89.611(b)(2), 90.612(b)(2), 94.804(b)(2), 1068.325(b)).”;

i. By revising paragraph (c)(3)(iii);

j. By revising paragraph (c)(3)(iv);

k. Paragraph (d) is amended by removing the term “Customs” and adding, in its place, the term “CBP”;

l. Paragraph (e) is amended in the first sentence by adding the words “or stationary” after the word “nonroad”, and by removing the term “Customs” and adding, in its place, the term “CBP”, and in the second sentence by adding the words “or stationary” after the word “nonroad”, and by removing the word “otherwise” and adding, in its place, the word “other”.

The revisions read as follows:

§ 12.74 Nonroad and stationary engine compliance with Federal antipollution emission requirements.

(a) Applicability of EPA regulations. The requirements governing the importation of nonroad and stationary engines subject to conformance with applicable emissions standards of the U.S. Environmental Protection Agency (EPA) are contained in EPA regulations, issued under the Clean Air Act, as amended (42 U.S.C. 7401 et seq.). These EPA regulations should be consulted for detailed information as to the admission requirements for subject nonroad and stationary engines. See 40 CFR part 1068, subpart D, with the following exceptions:

(1) For nonroad compression-ignition regulated under 40 CFR part 89, see 40 CFR part 89, subpart G. This applies to certain engines through the 2011 model year.

(2) For nonroad spark-ignition engines at or below 19 kilowatts regulated under 40 CFR part 90, see 40 CFR part 90, subpart G. This applies to certain engines through the 2011 model year.

(3) For marine compression-ignition engines regulated under 40 CFR part 94, see 40 CFR part 94, subpart I. This includes propulsion engines and auxiliary engines installed on marine vessels. This applies to certain engines through the 2013 model year.

(b) Admission of nonconforming nonroad engines. (1) EPA declaration form required. EPA Form 3520-21, “Importation of Engines, Vehicles, and Equipment Subject to Federal Air Pollution Regulations”, must be completed by the importer and retained on file by him before making a customs entry for such nonroad or stationary engines/vehicles/equipment.

* * * * *

(c) * * *

(3) * * *

(iii) Display (see 40 CFR 89.611(b)(4), 90.612(b)(3), 94.804(b)(4), 1068.325(c)).

(iv) Precertification (see 40 CFR 89.611(b)(3)).

* * * * *

§ 12.112 [Amended]

20. Section 12.112(b) is amended by removing the words “Abbreviated List of Pesticides compiled by the Environmental Protection Agency” and adding, in their place, the words “Index of Pesticide Products located in the Environmental Protection Agency's handbook entitled Recognition and Management of Pesticide Poisonings, found at http://www.epa.gov”.

§ 12.123 [Amended]

21. Section 12.123(b) is amended by:

a. Removing the words “Customs Form 7551, 7553, or 7595” and adding, in their place, the words “CBP Form 301, containing the conditions set forth in § 113.62 of this chapter”;

b. Removing the third sentence; and

c. Removing the word “Customs” and adding, in its place, the term “CBP”.

PART 18—TRANSPORTATION IN BOND AND MERCHANDISE IN TRANSIT

22. The general authority citation for part 18 and the specific authority for § 18.11 is revised to read as follows:

Authority: 5 U.S.C. 301; 19 U.S.C. 66, 1202 (General Note 3(i), Harmonized Tariff Schedule of the United States), 1551, 1552, 1553, 1623, 1624.

* * * * *

Section 18.11 also issued under 19 U.S.C. 1484;

* * * * *

§ 18.11 [Amended]

23. In § 18.11, paragraph (e) is amended by:

a. Removing from the first sentence the word “of” and adding in its place the word “or”; and

b. Removing from the first and third sentences the word “shall” and adding in its place the word “must”.

PART 101—GENERAL PROVISIONS

24. The general authority citation for part 101 continues to read as follows:

Authority: 5 U.S.C. 301; 19 U.S.C. 2, 66, 1202 (General Note 3(i), Harmonized Tariff Schedule of the United States (HTSUS)), 1623, 1624, 1646a.

Section 101.3 and 101.4 also issued under 19 U.S.C. 1 and 58b.

* * * * *

§ 101.3 [Amended]

25. In § 101.3(b)(1), the table of the list of Customs ports of entry is amended in the entry for Fargo, North Dakota, in the column headed “Limits of port”, by adding the numbers “09” after the phrase “CBP Dec. 03-”.

PART 103—AVAILABILITY OF INFORMATION

26. The general authority citation for part 103 continues to read as follows:

Authority: 5 U.S.C. 301, 552, 552a; 19 U.S.C. 66, 1624; 31 U.S.C. 9701.

* * * * *

§ 103.31 [Amended]

27. In § 103.31, paragraph (e)(2) is amended by:

a. Removing the phrase “CBP Data Center” each time that it appears and adding, in its place, the term “CBP Technology Support Center”; and

b. Removing from the last sentence the phrase “CBP Data Center, on (703) 921-6000”, and adding, in its place, the phrase “CBP Technology Support Center at 1-800-927-8729.”

PART 118—CENTRALIZED EXAMINATION STATIONS

28. The general authority citation for part 118 continues to read as follows:

Authority: 19 U.S.C. 66, 1499, 1623, 1624; 22 U.S.C. 401; 31 U.S.C. 5317.

* * * * *

§ 118.3 [Amended]

29. In § 118.3:

a. The word “six” is removed from the fourth sentence and, in its place, is added the word “five”; and

b. The word “Customs” is removed and, in its place, is added the term “CBP” each place it occurs.

PART 122—AIR COMMERCE REGULATIONS

30. The general authority citation for part 122 continues to read as follows:

Authority: 5 U.S.C. 301; 19 U.S.C. 58b, 66, 1431, 1433, 1436, 1448, 1459, 1590, 1594, 1623, 1624, 1644, 1644a, 2071 note.

* * * * *

§ 122.42 [Amended]

31. Section 122.42(b)(2) is amended by removing the reference to “122.34” and adding in its place a reference to “122.14, 122.15,”.

PART 141—ENTRY OF MERCHANDISE

32. The general authority citation for part 141, CBP regulations, continues to read as follows:

Authority: 19 U.S.C. 66, 1448, 1484, 1624.

* * * * *

§ 141.4 [Amended]

33. The introductory text to § 141.4(c) is amended by removing the reference to “19(e)” and adding in its place a reference to “3(e)”.

§ 141.113 [Amended]

34. In § 141.113:

a. Paragraph (c) introductory text is amended by removing the words “and cosmetics” in the paragraph heading and adding in their place the words “cosmetics, and tobacco products”.

b. Paragraph (c)(1) introductory text is amended by removing the words “or cosmetic” in the first sentence and adding in their place the words, “cosmetic, or tobacco product”.

c. Paragraph (c)(3) is amended by removing the words “device or cosmetic” in the first sentence and adding in their place the words, “device, cosmetic, or tobacco product”.

PART 146—FOREIGN TRADE ZONES

35. The authority citation for part 146 continues to read as follows:

Authority: 19 U.S.C. 66, 81a-81u, 1202 (General Note 3(i), Harmonized Tariff Schedule of the United States), 1623, 1624.

36. In § 146.35, paragraph (e) is revised to read as follows:

§ 146.35 Temporary deposit in a zone; incomplete documentation.

* * * * *

(e) Submission of CBP Form 214. A complete and accurate CBP Form 214 must be submitted, as provided in § 146.32, within 15 calendar days with no exceptions granted by the port director, or the merchandise will be placed in general order.

PART 159—LIQUIDATION OF DUTIES

37. The general authority citation for part 159 continues to read as follows:

Authority: 19 U.S.C. 66, 1500, 1504, 1624.

* * * * *

§ 159.11 [Amended]

38. Section 159.11(b) is amended at the end of the paragraph by removing the words “, but shall not apply to drawback entries”.

PART 162—INSPECTION, SEARCH, AND SEIZURE

39. The general authority citation for part 162 and the specific authority for § 162.23 continue to read as follows:

Authority: 5 U.S.C. 301; 19 U.S.C. 66, 1592, 1593a, 1624, 6 U.S.C. 101, 8 U.S.C. 1324(b).

* * * * *

Section 162.23 also issued under 19 U.S.C. 1595a(c).

* * * * *

40. In § 162.23:

a. Paragraphs (c) and (e) are amended by removing the word “Customs” and adding, in its place, the term “CBP”; and

b. A new paragraph (f) is added.

The addition reads as follows:

§ 162.23 Seizure under section 596(c), Tariff Act of 1930, as amended (19 U.S.C. 1595a(c)).

* * * * *

(f) Exportations contrary to law. Merchandise exported or sent, or attempted to be exported or sent, from the United States contrary to law, or the proceeds or value thereof, and property used to facilitate the exporting or sending, or attempted exporting or sending, of such merchandise, will be seized and subject to forfeiture. In addition, the receipt, purchase, transportation, concealment or sale of such merchandise prior to exportation will result in its seizure and forfeiture to the United States.

PART 192—EXPORT CONTROL

41. The general authority citation for part 192 continues to read as follows:

Authority: 19 U.S.C. 66, 1624, 1646c. Subpart A also issued under 19 U.S.C. 1627a, 1646a, 1646b; subpart B also issued under 13 U.S.C. 303; 19 U.S.C. 2071 note; 46 U.S.C. 91.

* * * * *

§ 192.14 [Amended]

42. In § 192.14, paragraph (d) is amended by:

a. Removing the phrase “§§ 30.50 through 30.58” and adding in its place the phrase “§§ 30.35 through 30.40”; and

b. Removing the phrase “(15 CFR 30.50 through 30.58)” and adding in its place the phrase “(15 CFR 30.35 through 30.40)”.

Dated: August 23, 2010.
Alan Bersin,
Commissioner, U.S. Customs and Border Protection.

[FR Doc. 2010-21253 Filed 8-25-10; 8:45 am]

BILLING CODE 9111-14-P